NATIONAL FOUNDATION FOR THE ARTS AND THE HUMANITIES

Institute of Museum and Library Services

Notice of Proposed Information Collection Request: Proposed Research Project: The Social Well-Being Impact (SWI) of Libraries and Museums Study

AGENCY: Institute of Museum and Library Services, National Foundation on the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning a plan to conduct a research study entitled “The Social Well-being Impact (SWI) of Libraries and Museums Study”. The study will be designed to demonstrate the impact of libraries and museums on community well-being. This builds upon prior work synthesized in the 2016 IMLS “Strengthening Networks, Sparking Change” report.

A copy of the proposed information collection request can be obtained by contacting the individual listed below in the ADDRESSES section of this notice.

DATES: Written comments must be submitted to the office listed in the addressee section below on or before November 1, 2018.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Dr. Sandra Webb, Director, Office of Grants Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

FOR FURTHER INFORMATION CONTACT: Dr. Marvin Carr, Senior Advisor, Office of the Director, Institute of Museum and Library Services, 955 L'Enfant Plaza North SW, Suite 4000, Washington, DC 20024-2135. Dr. Carr can be reached by Telephone: 202-653-4752 Fax: 202-653-4608, or by email at mcarr@imls.gov, or by teletype (TTY/TDD) for persons with hearing difficulty at 202-653-4614.

SUPPLEMENTARY INFORMATION:

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The Institute of Museum and Library Services (IMLS) is proposing a research project that looks beyond economic impact to the community relationships that are generated by museums and libraries and how the impact of those organizations affects a community's well-being. Since 2016, IMLS has engaged in a project entitled “Community Catalyst” which has shown that libraries and museums use community activities and strategic partnerships to address community concerns along a social well-being spectrum. Stakeholders from the library and museum fields have expressed a need for a national study that looks beyond economic impact of their institutions to the impact on employment, health and welfare, environment, crime, civic engagement, etc. all parts of social well-being. Previous research has focused on the economic impact of a single library or a subset of museums. The research study will used publicly available data bases at the county level to develop a sampling plan for in-depth targeted case studies of the relationship between the presence of museums and libraries and the indices of the social well-being indicators.

Agency: Institute of Museum and Library Services.

Title: Proposed Research Project: The Social Well-being Impact (SWI) of Libraries and Museums Study.

OMB Number: 3137-TBD.

Frequency: Once.

Affected Public: Community stakeholders at the county level, museum and library staff, local government officials.

Number of Respondents: # of sites 10-20.

Estimated Average Burden per Response: TBD.

Estimated Total Annual Burden: TBD.

Total Annualized capital/startup costs: n/a.

Total Annual costs: TBD.

Public Comments Invited: Comments submitted in response to this notice will be summarized and/or included in the request for OMB's clearance of this information collection.

Dated: August 29, 2018.
Kim Miller,
Grants Management Specialist, Institute of Museum and Library Services.

[FR Doc. 2018-19141 Filed 9-4-18; 8:45 am]

BILLING CODE 7036-01-P